DEPARTMENT OF HOUSING AND URBAN DEVELOPMENT

[Docket No. FR-5951-N-02]

Establishment of Tribal Intergovernmental Advisory Committee; Request for Nominations for Tribal Intergovernmental Membership

AGENCY: Office of the Secretary, HUD.

ACTION: Notice.

SUMMARY: On June 23, 2016, HUD published a Federal Register notice announcing its intent to establish a HUD Tribal Intergovernmental Advisory Committee (TIAC), consisting of tribal governmental representatives, to assist HUD to further develop and improve its Indian housing programs. The TIAC is intended to further communications between HUD and Federally recognized Indian tribes on HUD programs, make recommendations to HUD regarding current program regulations, and provide advice in the development of HUD's American Indian and Alaska Native housing priorities. This notice also solicits nominations and explains how persons may be nominated for membership on the TIAC.

DATES: Nominations for Committee membership are due on or before: February 21, 2017.

ADDRESSES: Interested persons are invited to submit nominations for membership on the Tribal Intergovernmental Advisory Committee. There are two methods for submission of nominations as explained below. Additionally, all submissions must refer to the above docket number and title.

1. Submission of Nominations by Mail. Nominations may be submitted by mail to the Regulations Division, Office of the General Counsel, Department of Housing and Urban Development, 451 Seventh Street, SW., Room 10276, Washington, DC 20410-0500.

2. Electronic Submission of Nominations. Interested persons may submit nominations electronically through the Federal eRulemaking Portal at www.regulations.gov. HUD strongly encourages the electronic submission of nominations. Electronic submission allows the maximum time to prepare and submit a nomination, ensures timely receipt by HUD, and enables HUD to make the names immediately available to the public. Nominations submitted electronically through the www.regulations.gov Web site can be viewed by interested members of the public. Individuals should follow the instructions provided on that site to submit nominations electronically.

Note: To receive consideration, nominations must be submitted through one of the two methods specified above. Again, all submissions must refer to the docket number and title of the notice. Facsimile (FAX) nominations are not acceptable.

Public Inspection of Nominations. All properly submitted nominations and communications submitted to HUD will be available for public inspection and copying between 8 a.m. and 5 p.m. weekdays at the above address. Due to security measures at the HUD Headquarters building, an advance appointment to review the submissions must be scheduled by calling the Regulations Division at (202) 708-3055 (this is not a toll-free number). Individuals with speech or hearing impairments may access this number via TTY by calling the Federal Information Relay Service at (800) 877-8339. Copies of all submissions are available for inspection and downloading at www.regulations.gov.

FOR FURTHER INFORMATION CONTACT: Heidi J. Frechette, Deputy Assistant Secretary for Native American Programs, Office of Public and Indian Housing, Department of Housing and Urban Development, 451 Seventh Street SW., Room 4126, Washington, DC 20410-5000, telephone, 202-401-7914 (this is not a toll-free number). Individuals with speech or hearing impairments may access this number via TTY by calling the toll-free Federal Relay Service at 1-800-877-8339.

SUPPLEMENTARY INFORMATION:

I. Background

Consistent with Executive Order 13175, HUD's Tribal Government-to-Government Consultation Policy recognizes the right of Indian tribes to self-governance, and supports tribal sovereignty and self-determination. The Consultation Policy provides that HUD will engage in regular and meaningful consultation and collaboration with Indian tribal officials in the development of federal policies that have tribal implications, and provides that HUD may establish a standing tribal advisory committee. Executive Orders 13175 and 13647 require Federal agencies to advance tribal self-governance and ensure that the rights of sovereign tribal governments are fully respected by conducting open and candid consultations. HUD establishes the TIAC to further enhance consultation and collaboration with tribal governments. Several Federal agencies have established similar tribal advisory committees, including the Environmental Protection Agency, the Department of Health and Human Services, and the Department of the Treasury. These advisory committees convene periodically during the year to exchange information with agency staff, to provide agencies with an opportunity to notify tribal leaders of activities or policies that could affect Indian tribes, and to provide guidance on consultation.

II. This Notice

This notice announces the establishment of the Tribal Intergovernmental Advisory Committee (TIAC) for HUD as part of its commitment to strengthen the unique government-to-government relationship between Federally-recognized American Indian tribes and Federal agencies.

A. Purpose and Role of the TIAC.

The purposes of the TIAC are:

(1) To further facilitate intergovernmental communication between HUD and tribal governments on all HUD programs;

(2) To make recommendations to HUD regarding current program regulations that may require revision, as well as suggest methods to develop such changes. The TIAC will not, however, negotiate any changes to regulations that are subject to negotiated rulemaking under Section 106 of the Native American Housing Assistance and Self-Determination Act (NAHASDA); and

(3) To advise on the development of HUD's American Indian and Alaska Native (AIAN) housing priorities.

The role of the TIAC is to provide recommendations and input to HUD, and to provide a vehicle for regular, meaningful consultation and collaboration with tribal governments. It will not replace other means of tribal consultations, but supplement them. HUD will maintain the responsibility to exercise program management, including the drafting of HUD notices and guidance.

For the purpose of the TIAC, the term “tribal government” means: Any Indian tribe, band, nation, or other organized group or community, including any Alaska Native village or regional or village corporation as defined in or established pursuant to the Alaska Native Claims Settlement Act (85 Stat. 688; 43 U.S.C. 1601 et seq.) which is recognized as eligible for the special programs and services provided by the United States to Indians because of their special status as Indians as defined in the Unfunded Mandates Reform Act of 1995 (Pub. L. 104-4).

B. Charter and Protocols

The TIAC will develop its own ruling charter and protocols. HUD will provide staff for the TIAC to act as liaisons between TIAC and HUD officials, manage meeting logistics, and provide general support for TIAC activities.

C. Meetings and Participation

The Committee will not convene before October 1, 2017. Subject to availability of federal funding, the TIAC will meet in-person at least once a year to discuss agency policies and activities with HUD, set shared priorities, and facilitate further consultation with tribal leaders. HUD may pay for these meetings, including the member's cost to travel to these meetings. The TIAC may meet on a more frequent basis by conference calls or other forms of communication. Additional in-person meetings may be scheduled at HUD's discretion.

Participation at TIAC meetings will be limited to TIAC members or their alternates. TIAC members must be elected or duly appointed officers of a tribal government, and alternates must be tribal employees with authority to act on behalf of the elected tribal government official. Alternates must be designated in writing by the member's tribal government or elected tribal government official. TIAC members may bring one technical advisor to the meeting at the tribe's expense.

Meeting minutes will be available on the HUD Web site.

D. TIAC Membership

The TIAC will be comprised of HUD representatives and tribal government officials from across the country. The TIAC will be composed of up to six HUD officials (including the Secretary or his or her designee, as well as the Assistant Secretaries for Public and Indian Housing, Policy Development and Research, and Community Planning and Development) and up to fifteen tribal representatives. Up to two tribal members will represent each of the six HUD ONAP regions. Up to three remaining tribal members will serve at-large.

The Secretary will appoint the members of the TIAC. TIAC tribal delegates will serve a term of 2 years. To ensure continuity between tribal terms, delegates will have a staggered term of appointment. In order to establish a staggered term of appointment, half of the tribal members appointed in the inaugural year of the TIAC will serve 2 years and the other half will serve 3 years. Delegates must designate their preference to serve 2 or 3 years; however, HUD will make the final determination on which members will serve for 3 years. Once these members complete these initial terms, all future committee members will serve two-year terms. Should a member's tenure as a tribal leader come to an end during their appointment to the TIAC, the member's tribe may nominate a replacement.

E. Objective of the TIAC

The establishment of the TIAC is intended to enhance government-to-government relationships, communications, and mutual cooperation between HUD and tribal governments and is not intended to, and will not, create any right to administrative or judicial review, or any other right or benefit or trust responsibility, substantive or procedural, enforceable by a party against the United States, its agencies or instrumentalities, its officers or employees, or any other persons.

III. Request for Nominations

The Committee will be composed of up to six HUD officials and up to fifteen tribal representatives. Up to two tribal members will represent each of the six HUD ONAP regions. The three remaining tribal members will serve at-large. Only duly elected or appointed tribal leaders may serve as tribal members of the TIAC. Once appointed to the TIAC, tribal leaders may designate an alternate who is a tribal employee and has the authority to act on his or her behalf. One of the tribal members will be selected by the Committee to serve as the chairperson.

If you are interested in serving as a member of the Committee or in nominating another person to serve as a member of the Committee, you may submit a nomination to HUD in accordance with the ADDRESSES section of this notice. Your nomination for membership on the Committee must include:

1. The name of your nominee, a description of the interests the nominee would represent, and a description of the nominee's experience and interest in American Indian and Alaska Native housing and community development matters;

2. Evidence that your nominee is a duly elected or appointed tribal leader and is authorized to represent a tribal government;

3. A written commitment from the nominee that she or he will actively participate in good faith in the Committee meetings; and

4. A written preference for serving either a two- or a three-year term on the TIAC.

HUD will appoint the members of the TIAC from the pool of nominees requested by this notice. HUD will announce its final selections for TIAC membership in a future Federal Register notice. Members will be selected based on proven experience and interest in AIAN housing and community development matters, and whether the interest of the proposed member could be represented adequately by other members.

In addition to the criteria above, at-large members will be selected based on their ability to represent specific interests that might not be represented by the selected regional members.

Dated: December 16, 2016.
Julián Castro,
Secretary.

[FR Doc. 2016-30744 Filed 12-20-16; 8:45 am]

BILLING CODE 4210-67-P